NATIONAL SCIENCE FOUNDATION

Agency Information Collection Activities: Proposed Collection; Comment Request

AGENCY: National Science Foundation.

ACTION: Notice and request for comments.

SUMMARY: Under the Paperwork Reduction Act of 1995, Public Law 104-13 (44 U.S.C. 3501, et seq.), and as part of its continuing effort to reduce paperwork and respondent burden, the National Science Foundation (NSF) is inviting the general public or other Federal agencies to comment on this proposed continuing information collection. The NSF will publish periodic summaries of the proposed projects.

Comments: Comments are invited on (a) whether the proposed collection of information is necessary for the proper performance of the functions of the NSF, including whether the information will have practical utility; (b) the accuracy of the NSF's estimate of the burden of the proposed collection of information; (c) ways to enhance the quality, utility, and clarity of the information to be collected, including through the use of automated collection techniques or other forms of information technology; and (d) ways to minimize the burden of the collection of information on those who are to respond, including through the use of appropriate automated collection techniques or other forms of information technology.

DATES: Written comments on this notice must be received by September 16, 2014 to be assured of consideration. Comments received after that date will be considered to the extent practicable. Send comments to the address below.

FOR FURTHER INFORMATION CONTACT: Ms. Suzanne H. Plimpton, Reports Clearance Officer, National Science Foundation, 4201 Wilson Boulevard, Suite 1265, Arlington, Virginia 22230; telephone (703) 292-7556; or send email to splimpto@nsf.gov.

Individuals who use a telecommunications device for the deaf (TDD) may call the Federal Information Relay Service (FIRS) at 1-800-877-8339, which is accessible 24 hours a day, 7 days a week, 365 days a year (including federal holidays).

SUPPLEMENTARY INFORMATION:

Title of Collection: 2015 National Survey of College Graduates.

OMB Approval Number: 3145-0141.

Expiration Date of Approval: November 30, 2015.

Type of Request: Intent to seek approval to renew an information collection for three years.

1. Abstract. The National Survey of College Graduates (NSCG) has been conducted biennially since the 1970s. The 2015 NSCG sample will be selected from the 2013 American Community Survey (ACS) and the 2013 NSCG. By selecting sample from these two sources, the 2015 NSCG will provide coverage of the college graduate population residing in the United States. The purpose of this longitudinal survey is to collect data that will be used to provide national estimates on the science and engineering workforce and changes in their employment, education, and demographic characteristics.

The National Science Foundation Act of 1950, as subsequently amended, includes a statutory charge to “. . . provide a central clearinghouse for the collection, interpretation, and analysis of data on scientific and engineering resources, and to provide a source of information for policy formulation by other agencies of the Federal Government.” The NSCG is designed to comply with these mandates by providing information on the supply and utilization of the nation's scientists and engineers. The NSF uses the information from the NSCG to prepare congressionally mandated reports such as Women, Minorities and Persons With Disabilities in Science and Engineering and Science and Engineering Indicators. A public release file of collected data, designed to protect respondent confidentiality, will be made available to researchers on the Internet.

The U.S. Census Bureau, as in the past, will conduct the NSCG for NSF. The survey data collection will begin in February 2015 using Web and mail questionnaires. Nonrespondents to the Web or mail questionnaire will be followed up by computer-assisted telephone interviewing. The survey will be collected in conformance with the Confidential Information Protection and Statistical Efficiency Act of 2002, and the individual's response to the survey is voluntary. NSF will ensure that all information collected will be kept strictly confidential and will be used only for statistical purposes.

2. Expected Respondents. A statistical sample of approximately 135,000 individuals will be contacted in 2015. NSF expects the response rate to be 70 to 80 percent.

3. Estimate of Burden. The amount of time to complete the questionnaire may vary depending on an individual's circumstances; however, on average it will take approximately 30 minutes to complete the survey. NSF estimates that the total annual burden will be no more than 54,000 hours (=135,000 respondents × 80% response × 30 minutes) during the 2015 survey cycle.

Dated: July 14, 2014.
Suzanne H. Plimpton,
Reports Clearance Officer, National Science Foundation.

[FR Doc. 2014-16848 Filed 7-17-14; 8:45 am]

BILLING CODE 7555-01-P